DEPARTMENT OF TRANSPORTATION

Federal Aviation Administration

14 CFR Part 39

[Docket No. FAA-2004-19764; Directorate Identifier 2004-NM-02-AD; Amendment 39-14182; AD 2005-14-05]

RIN 2120-AA64

Airworthiness Directives; Boeing Model 777-200 and -300 Series Airplanes

AGENCY: Federal Aviation Administration (FAA), Department of Transportation (DOT).

ACTION: Final rule.

SUMMARY: The FAA is adopting a new airworthiness directive (AD) for certain Boeing Model 777-200 and -300 series airplanes. This AD requires applying an anti-static conductive coating to the fuel access and thermal anti-icing blowout doors at the location of the bonding fasteners on the leading edge of the wings, and performing a resistance test on the new coating to ensure correct ground path resistance. This AD is prompted by a report that an anti-static coating was not applied correctly on doors located within a flammable fluid leakage zone. We are issuing this AD to prevent an uncontrollable fire in the leading edge of the wing, which could damage critical wing structures and cause a fuel tank explosion.

DATES: This AD becomes effective August 10, 2005.

The incorporation by reference of a certain publication listed in the AD is approved by the Director of the Federal Register as of August 10, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19764; the directorate identifier for this docket is 2004-NM-02-AD.

FOR FURTHER INFORMATION CONTACT: Margaret Langsted, Aerospace Engineer, Propulsion Branch, ANM-140S, FAA, Seattle Aircraft Certification Office, 1601 Lind Avenue, SW., Renton, Washington 98055-4056; telephone (425) 917-6500; fax (425) 917-6590.

SUPPLEMENTARY INFORMATION: The FAA proposed to amend 14 CFR part 39 with an AD for certain Boeing Model 777-200 and -300 series airplanes. That action, published in the Federal Register on December 7, 2004 (69 FR 70574), proposed to require applying an anti-static conductive coating to the fuel access and thermal anti-icing blowout doors at the location of the bonding fasteners on the leading edge of the wings, and performing a resistance test on the new coating to ensure correct ground path resistance.

Comments

We provided the public the opportunity to participate in the development of this AD. We have considered the comments that have been submitted on the proposed AD.

Support for the Proposed AD

One commenter, the manufacturer, supports the proposed AD.

Request To Remove a Service Bulletin Action To Maintain Certain Coating Thickness

One commenter concurs with the AD. However, the commenter states that Boeing Special Attention Service Bulletin 777-57-0046, dated September 25, 2003, which is referenced in the proposed AD as the appropriate source of service information, specifies an action to maintain a certain coating thickness that is impractical to perform. The commenter states that Note (b) of Figures 1 and 2 in the Accomplishment Instructions of the service bulletin specifies that the conductive coating be applied at a thickness of 0.0004 to 0.0008 inch. The commenter states that there is no practical method to measure the thickness and that they have confirmation from the manufacturer that the intent of Note (b) is to ensure that the coating application is continuous. The commenter also notes that the manufacturer plans to delete the thickness dimension and revise the wording in Note (b) in the next revision of the service bulletin.

We agree with the commenter that the intent of Note (b) of the service bulletin is to ensure a continuous coating and that the measured thickness is not relevant. Although Note (b) specifies maintaining the thickness of the applied conductive coating between 0.0004 and 0.0008 inch, we have revised paragraph (f) of this AD to clarify the manufacturer's intent: to apply a uniform coating to avoid runs, sags, or wrinkles, and to ensure the anti-static coating touches the anti-static coating exposed during surface preparation.

We have coordinated this difference with the manufacturer. The manufacturer has informed us that a revision of the service bulletin that contains a revised Note (b) is planned for release. Once the revision has been issued, under the provisions of paragraph (g) of this AD, affected operators may request approval to use the later revision of the referenced service bulletin as an alternative method of compliance.

Request To Reduce the Compliance Time

One commenter requests that the compliance time be reduced. The commenter suggests that the simplicity and low cost of the task would allow airlines to perform the task sooner.

We do not agree with the request to shorten the compliance time. After considering all the available information, including the fact that there have been no reports of in-service arcing or sparking as a result of the missing anti-static coating, we determined that the compliance time, as proposed, represents an appropriate interval in which the anti-static coating can be applied in a timely manner within the fleet, while still maintaining an adequate level of safety. In developing the compliance time for this AD action, we considered not only the safety implications of the identified unsafe condition, but the average utilization rate of the affected fleet, the practical aspects of an orderly modification of the fleet during regular maintenance periods, the availability of required parts, and the time necessary for the rulemaking. However, if additional data are presented that would justify a shorter compliance time, we may consider further rulemaking on this issue. Operators are always permitted to accomplish the requirements of an AD at a time earlier than the specified compliance time.

Conclusion

We have carefully reviewed the available data, including the comments that have been submitted, and determined that air safety and the public interest require adopting the AD with the change described previously. We have determined that this change will neither increase the economic burden on any operator nor increase the scope of the AD.

Costs of Compliance

This AD will affect about 65 airplanes worldwide and 18 airplanes of U.S. registry. The actions will take about 5 work hours per airplane, at an average labor rate of $65 per work hour. Based on these figures, the estimated cost of this AD for U.S. operators is $5,850, or $325 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-14-05 Boeing: Amendment 39-14182. Docket No. FAA-2004-19764; Directorate Identifier 2004-NM-02-AD.

Effective Date

(a) This AD becomes effective August 10, 2005.

Affected ADs

(b) None.

Applicability

(c) This AD applies to Boeing Model 777-200 and -300 series airplanes, certificated in any category; as listed in Boeing Special Attention Service Bulletin 777-57-0046, dated September 25, 2003.

Unsafe Condition

(d) This AD was prompted by a report that an anti-static coating was not applied correctly on doors located within a flammable fluid leakage zone. We are issuing this AD to prevent an uncontrollable fire in the leading edge of the wing, which could damage critical wing structures and cause a fuel tank explosion.

Compliance

(e) You are responsible for having the actions required by this AD performed within the compliance times specified, unless the actions have already been done.

Modification and Resistance Test

(f) Within 18 months after the effective date of this AD, apply an anti-static conductive coating to the fuel access and thermal anti-icing blowout doors at the location of the bonding fasteners, and perform a resistance test on the new coating, in accordance with the Accomplishment Instructions of Boeing Special Attention Service Bulletin 777-57-0046, dated September 25, 2003. Where Note (b) of Figures 1 and 2 of the Accomplishment Instructions of the service bulletin specifies to maintain the thickness of the conductive coating between 0.0004 and 0.0008 inch, this AD requires applying a uniform coating to avoid runs, sags, or wrinkles, and to ensure the anti-static coating touches the anti-static coating exposed during surface preparation.

(1) If the resistance measured between the door surface and a fastener located within the doors' surrounding support structure is within the limits specified in the service bulletin, no further action is required by this paragraph.

(2) If the resistance measured between the door surface and a fastener located within the doors' surrounding support structure is outside the limits specified in the service bulletin, before further flight, repeat the actions as required by paragraph (f) of this AD up to five times, as applicable. If the results of the fifth test exceed the limits specified in the service bulletin, before further flight, contact the Manager, Seattle Aircraft Certification Office (ACO), FAA, for disposition of repairs.

Alternative Methods of Compliance (AMOCs)

(g) The Manager, Seattle ACO, FAA, has the authority to approve AMOCs for this AD, if requested in accordance with the procedures found in 14 CFR 39.19.

Material Incorporated by Reference

(h) You must use Boeing Special Attention Service Bulletin 777-57-0046, dated September 25, 2003, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 24, 2005.
Michael J. Kaszycki,
Acting Manager, Transport Airplane Directorate, Aircraft Certification Service.

[FR Doc. 05-13224 Filed 7-5-05; 8:45 am]

BILLING CODE 4910-13-P